DEPARTMENT OF THE INTERIOR

National Park Service

36 CFR Part 13

[NPS-AKRO-35327; PPAKAKROZ5, PPMPRLE1Y.L00000]

RIN 1024-AE70

Alaska; Hunting and Trapping in National Preserves—Extension of Public Comment Period

AGENCY: National Park Service, Interior.

ACTION: Proposed rule; extension of public comment period.

SUMMARY: The National Park Service extends the public comment period for a proposed rule that would amend regulations for sport hunting and trapping in national preserves in Alaska. Extending the comment period will allow more time for the public to review the proposal and submit comments.

DATES: The comment period for the proposed rule published on January 9, 2023 (88 FR 1176), is extended. Comments must be received by 11:59 p.m. EST on March 27, 2023.

ADDRESSES: You may submit comments, identified by Regulation Identifier Number (RIN) 1024-AE70, by either of the following methods:

• Federal eRulemaking Portal: www.regulations.gov. Follow the instructions for submitting comments.

• Mail or hand deliver to: National Park Service, Regional Director, Alaska Regional Office, 240 West 5th Ave., Anchorage, AK 99501. Comments delivered on external electronic storage devices (flash drives, compact discs, etc.) will not be accepted.

• Instructions: Comments will not be accepted by fax, email, or in any way other than those specified above. Comments delivered on external electronic storage devices (flash drives, compact discs, etc.) will not be accepted. All submissions received must include the words “National Park Service” or “NPS” and must include the docket number or RIN (1024-AE70) for this rulemaking. Comments received will be posted without change to www.regulations.gov, including any personal information provided.

• Docket: For access to the docket to read background documents or comments received, go to www.regulations.gov and search for “1024-AE70.”

FOR FURTHER INFORMATION CONTACT: Sarah Creachbaum, Regional Director, Alaska Regional Office, 240 West 5th Ave., Anchorage, AK 99501; phone (907) 644-3510; email: AKR_Regulations@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On January 9, 2023, the National Park Service (NPS) published in the Federal Register (88 FR 1176) a proposed rule that would amend regulations for sport hunting and trapping in national preserves in Alaska. The proposed rule would prohibit certain harvest practices, including bear baiting; prohibit predator control or predator reduction on national preserves; and clarify the regulatory definition of trapping. The public comment period for this proposal is scheduled to close on Friday, March 10, 2023. In order to give the public additional time to review and comment on the proposal, the NPS is extending the public comment period until Monday, March 27, 2023. Comments previously submitted on the proposed rule need not be resubmitted, as they will be fully considered in preparing the final rule.

Shannon Estenoz,
Assistant Secretary, for Fish and Wildlife and Parks.

[FR Doc. 2023-04981 Filed 3-9-23; 8:45 am]

BILLING CODE 4312-52-P